DEPARTMENT OF TRANSPORTATION

Coast Guard

33 CFR Parts 110 and 165

[CGD 05-00-008]

RIN 2115-AA97, AA98

Tall Ships Delaware, Delaware River, Wilmington, DE

AGENCY: Coast Guard, DOT.

ACTION: Notice of proposed rulemaking.

SUMMARY: The Coast Guard proposes to establish temporary regulations in the Delaware River, Wilmington, Delaware, for Tall Ships Delaware activities. This action is necessary to provide for the safety of life on navigable waters before, during, and after Tall Ships Delaware events. This action will restrict vessel traffic in the Delaware River between the mouth of the Christina River and New Castle, Delaware.

DATES: Comments and related material must reach the Coast Guard on or before May 8, 2000.

ADDRESSES: You may mail comments and related material to the Waterways and Waterfront Facilities Branch, Coast Guard Marine Safety Office/Group Philadelphia, One Washington Ave., Philadelphia, Pennsylvania 19147 or deliver them to the same address between 8 a.m. and 4 p.m., Monday through Friday, except Federal holidays. The Waterways and Waterfront Facilities Branch, Coast Guard Marine Safety Office/Group Philadelphia maintains the public docket for this rulemaking. Comments and materials received from the public as well as documents indicated in this preamble as being available in the docket, will become part of this docket and will be available for inspection or copying at the above address between 8:30 a.m. and 2:30 p.m., Monday through Friday, except Federal holidays.

FOR FURTHER INFORMATION CONTACT: Lieutenant (junior grade) Kirsten Codel, Waterways and Waterfront Facilities Branch, Coast Guard Marine Safety Office/Group Philadelphia, at (215) 271-4991.

SUPPLEMENTARY INFORMATION:

Request for Comments

We encourage you to participate in this rulemaking by submitting comments and related material. If you do so, please include your name and address, identify the docket number for this rulemaking (CGD05-00-008), indicate the specific section of this document to which each comment applies, and give the reason for each comment. Please submit all comments and related material in an unbound format, no larger than 8½ by 11 inches, suitable for copying. The comment period for this regulation is 30 days. This time period is adequate to allow local input because the event is highly publicized and the shortened comment period will allow the full 30-day publication requirement prior to the final rule becoming effective. If you would like to know they reached us, please enclose a stamped, self-addressed postcard or envelope. We will consider all comments and material received during the comment period. We may change this proposed rule in view of them.

Public Meeting

We do not plan to hold a public meeting. But you may submit a request for a meeting by writing to Commanding Officer, Coast Guard Marine Safety Office/Group Philadelphia, One Washington Ave., Philadelphia, Pennsylvania 19147, explaining why one would be beneficial. If we determine that one would aid this rulemaking, we will hold one at a time and place announced by a later notice in the Federal Register.

Background and Purpose

The Diamond State Port Corporation (Port of Wilmington) is sponsoring Tall Ships Delaware activities in the Delaware River, Wilmington, Delaware. The planned event includes a Parade of Sail from the confluence of the Christina River and the Delaware River, down river to New Castle, Delaware, and back to the mouth of the Christina River on June 23, 2000.

The Coast Guard anticipates a large spectator fleet for this event. Operators should expect significant vessel congestion along the parade route.

The purpose of these regulations is to promote maritime safety and protect participants and the boating public immediately prior to, during, and after the scheduled event. The regulations provide a safety buffer around the participating vessels during the parade of sail and modify existing anchorage regulations for the benefit of participants and spectators. The regulations will affect the movement of all vessels operating in the specified areas of the Delaware River.

It may be necessary for the Coast Guard to establish safety or security zones in addition to these regulations to safeguard dignitaries and certain vessels participating in the event. If the Coast Guard deems it necessary to establish such zones at a later date, the details of those zones will be announced separately via the Federal Register, Local Notice to Mariners, Safety Voice Broadcasts, and any other means available.

All vessel operators and passengers are reminded that vessels carrying passengers for hire or that have been chartered and are carrying passengers may have to comply with certain additional rules and regulations beyond the safety equipment requirements for all pleasure craft. When a vessel is not being used exclusively for pleasure, but rather is engaged in carrying passengers for hire or has been chartered and is carrying the requisite number of passengers, the vessel operator must possess an appropriate license and the vessel may be subject to inspection. The definition of the term “passenger for hire” is found in 46 U.S.C. 2101(21a). In general, it means any passenger who has contributed any consideration (monetary or otherwise) either directly or indirectly for carriage onboard the vessel. The definition of the term “passenger” is found in 46 U.S.C. 2101(21). It varies depending on the type of vessel, but generally means individuals carried aboard vessels except for certain specified individuals engaged in the operation of the vessel or the business of the owner/charterer. The law provides for substantial penalties for any violation of applicable license and inspection requirements. If you have any questions concerning the application of the above law to your particular case, you should contact the Coast Guard at the address listed in ADDRESSES for additional information.

Vessel operators are reminded they must have sufficient facilities on board their vessels to retain all garbage and untreated sewage. Discharge of either into any waters of the United States is strictly forbidden. Violators may be assessed civil penalties up to $25,000 or face criminal prosecution.

We recommend that vessel operators visiting the Wilmington area for this event obtain an up to date edition of National Ocean Service Chart 12311 to avoid anchoring within a charted cable or pipeline area.

With the arrival of Tall Ships Delaware and spectator vessels in the Wilmington area for this event, it will be necessary to curtail normal port operations to some extent. Interference will be kept to the minimum considered necessary to ensure the safety of life on the navigable waters immediately before, during, and after the scheduled events.

Discussion of Proposed Rule

The Tall Ships Delaware vessels are scheduled to arrive and moor at various locations along the Christina River by June 23, 2000. The lead vessel is scheduled to begin the Parade of Sail at 12:00 p.m. on June 23, 2000, and will follow a parade route of approximately 4 nautical miles on the Delaware River from the mouth of the Christina River, outbound to New Castle, Delaware, sailing outside the western side of the channel. The parade vessels will then cross the federal navigation channel of the Delaware River and return to the eastern side of the channel adjacent to the mouth of the Christina River sailing outside the eastern side of the channel. The parade vessels will then cross the navigable channel and enter the Christina River. After the parade, the larger Tall Ships Delaware vessels will moor at the Port of Wilmington on the Christina River. The remainder of the vessels will proceed up the Christina River to various mooring locations.

The safety of parade participants and spectators will require that spectator craft be kept at a safe distance from the parade route during these vessel movements. The Coast Guard proposes using a moving safety zone around the Parade of Sail to keep all vessels not involved in the Parade of Sail a safe distance from the Tall Ships Delaware vessels. The Parade of Sail route is outside the federal navigation channel of the Delaware River, allowing the channel to remain open, except when the Parade of Sail is crossing the navigable channel. However, the Coast Guard expects that there will be increased vessel congestion in the vicinity of the federal navigation channel.

The Coast Guard also proposes to temporarily modify the existing anchorage regulations found in 33 CFR 110.157 to accommodate Tall Ships Delaware vessels. A leg of the parade route runs through General Anchorage 6 (Deepwater Point Anchorage). Therefore, General Anchorage 6 will be closed to all vessels except Tall Ships Delaware vessels from 12 p.m. to 4 p.m. on June 23, 2000. (A notice of proposed rulemaking affecting 33 CFR 110.157 has been published in the Federal Register at 65 FR 16361. Those proposed temporary regulations affect Anchorages 9-13 and would be temporarily added at § 110.157(d). Accordingly, the rules proposed here would be temporarily added at § 110.157(e).)

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10e of the regulatory policies and procedures of DOT is unnecessary.

The primary impact of these regulations will be on vessels wishing to transit the affected waterways during the Parade of Sail on June 23, 2000. Although these regulations prevent traffic from transiting portions of the Delaware River during the event, that restriction is limited in duration, affects only a limited area, and will be well publicized to allow mariners to make alternative plans for transiting the affected area. Moreover, the parade route will be outside the federal navigational channel allowing the channel to remain open with the exception of when the Parade of Sail actually crosses the channel. This should minimize the effect on non-participant and spectator vessels intending to transit the federal navigation channel.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which may be small entities: the owners or operators of vessels intending to operate or anchor in portions of the Delaware River in the vicinity of Wilmington, Delaware. The regulations will not have a significant impact on a substantial number of small entities for the following reasons: the restrictions are limited in duration, affect only limited areas, and will be well publicized to allow mariners to make alternative plans for transiting the affected areas. Moreover, the parade route will be outside the federal navigational channel allowing the channel to remain open with the exception of when the Parade of Sail actually crosses the channel.

If you think that your business, organization or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant (junior grade) Kirsten Codel, Waterways and Waterfront Facilities Branch, Coast Guard Marine Safety Office/Group Philadelphia, at (215) 271-4991.

Collection of Information

This proposed rule would call for no new collection of information under the Paperwork Reduction Act of 1995 (44 U.S.C. 3501-3520).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (34)(g), of Commandant Instruction M16475.1C; this proposed rule is categorically excluded from further environmental documentation. A “Categorical Exclusion Determination” will be available in the docket where indicated under ADDRESSES. By controlling vessel traffic during these events, this proposed rule is intended to minimize environmental impacts of increased vessel traffic during the transits of event vessels.

List of Subjects

33 CFR Part 110

Anchorage Grounds.

33 CFR Part 165

Harbors, Marine safety, Navigation (water), Reporting and recordkeeping requirements, Security measures, Waterways.

Regulation

For the reasons discussed in the preamble, the Coast Guard proposes to amend 33 CFR Parts 110 and 165 as follows:

PART 110—[AMENDED]

1. The authority citation for Part 110 continues to read as follows:

Authority: 33 U.S.C. 471, 1221 through 1236, 2030, 2035, 2071; 49 CFR 1.46 and 33 CFR 1.05-1(g).

2. From 12:00 p.m. until 4:00 p.m. on June 23, 2000 temporarily add § 110.157(e) to read as follows:

§ 110.157 Delaware Bay and River

* * * * *

(e) Not withstanding the above, the following temporary regulations will be in effect from 12 p.m. through 4 p.m. on June 23, 2000 for Tall Ships Delaware: Anchorage 6 will be closed to all vessels except Tall Ships Delaware vessels. “Tall Ships Delaware vessels” includes all vessels participating in Tall Ships Delaware under the auspices of the Marine Event Permit submitted for the Port of Wilmington, Delaware, and approved by the Commander, Fifth Coast Guard District.

PART 165—[AMENDED]

3. The authority citation for Part 165 continues to read as follows:

Authority: 33 U.S.C. 1225 and 1231; 50 U.S.C. 191; 33 CFR 1.05-1(g), 6.04-1, 6.04-6, and 160.5; 49 CFR 1.46. Section 165.100 is also issued under authority of Sec. 311, Pub. L. 105-383.

4. Add temporary § 165.T05-008 to read as follows:

§ 165.T05-008 Safety Zone; Tall Ships Delaware, Delaware River, Wilmington, DE.

(a) Definitions: (1) Captain of the Port means the Commanding Officer of the Coast Guard Marine Safety Office/Group Philadelphia or any Coast Guard commissioned, warrant, or petty officer who has been authorized by the Captain of the Port to act on his behalf.

(2) Coast Guard Patrol Commander is a commissioned, warrant, or petty officer of the Coast Guard who has been designated by the Commanding Officer, Coast Guard Marine Safety Office/Group Philadelphia.

(3) Tall Ships Delaware Vessels includes all vessels participating in the Tall Ships Delaware under the auspices of the Marine Event Permit submitted for the Port of Wilmington, Delaware, and approved by Commander, Fifth Coast Guard District.

(b) Location. The following area is a moving safety zone: All waters from 500 yards forward of the lead Tall Ships Delaware vessel to 100 yards aft of the last Tall Ships Delaware vessel, and extending 50 yards outboard of each Tall Ships Delaware vessel participating in the Parade of Sail. This safety zone will move with the Parade of Sail as it transits the Delaware River from the mouth of the Christina River outbound to New Castle, Delaware, returns to the mouth of the Christina River, and as each Tall Ships Delaware vessel moors in Wilmington, Delaware.

(c) Regulations. (1) All persons are required to comply with the general regulations governing safety zones in § 165.23 of this part.

(2) No person or vessel may enter or navigate within this safety zone unless authorized to do so by the Coast Guard Patrol Commander. Any person or vessel authorized to enter the safety zone must operate in strict conformance with any directions given by the Coast Guard Patrol Commander and leave the safety zone immediately if the Coast Guard Patrol Commander so orders.

(3) The Coast Guard vessels enforcing this section can be contacted on VHF Marine Band Radio, channels 13 and 16. The Captain of the Port can be contacted at telephone number (215) 271-4940.

(4) The Coast Guard Patrol Commander will notify the public of changes in the status of this safety zone by Marine Safety Radio Broadcast on VHF-FM marine band radio, channel 22 (157.1 MHZ).

(d) Effective dates: These regulations are effective from 12 p.m. to 4 p.m. on June 23, 2000.

Dated: March 28, 2000.
J.W. Underwood,
Captain, U.S. Coast Guard, Acting Commander, Fifth Coast Guard District.

[FR Doc. 00-8661 Filed 4-6-00; 8:45 am]

BILLING CODE 4910-15-U